ENVIRONMENTAL PROTECTION AGENCY

[FRL-7836-8]

Integrated Risk Information System (IRIS); Addition of New Tracking Feature to the Public Web Site

AGENCY: Environmental Protection Agency (EPA).

ACTION: Notice; Addition of Chemical Assessment Tracking System to the Integrated Risk Information System (IRIS) Public Web site.

SUMMARY: EPA's Office of Research and Development (ORD) National Center for Environmental Assessment (NCEA) is releasing a new on-line resource, “IRIS Track”, which will provide information on the progress of chemical assessments underway in the IRIS program. The IRIS Track system is designed to provide greater transparency to the public regarding the status of IRIS assessments in progress. The IRIS Track is set to go live on November 10, 2004. IRIS Track will display major milestone dates for IRIS assessment development and review. It will enable IRIS users to monitor current milestone status and view projected dates for future milestones for each chemical assessment in progress. The system will be kept continually up to date. IRIS Track will be accessible by anyone with access to the Internet from the IRIS home page at http://www.epa.gov/iris.

ADDRESSES: The address for the IRIS Hotline is 1301 Constitution Avenue, NW., Washington, DC 20005 (Mail Code 28221T) EPA-West Building.

FOR FURTHER INFORMATION CONTACT: For information on IRIS Track, contact Rick Johnson, IRIS Staff, National Center for Environmental Assessment (mail code 8601D), Office of Research and Development, U.S. Environmental Protection Agency, Washington, DC 20460, or call (202) 564-3291, or send electronic mail inquiries to johnson.rickc@epa.gov.

SUPPLEMENTARY INFORMATION: IRIS is an on-line database of EPA's consensus positions on the potential health effects that may result from human exposure to various chemicals found in the environment. EPA adds new chemical assessments to IRIS and updates existing assessments on an on-going basis. EPA publishes an annual agenda of chemical assessments underway in the IRIS program in the Federal Register. (See, for example, 69 FR 5971, February 9, 2004.) Assessments generally require two or more years to complete. During this period, IRIS users often request status information from the Agency. The IRIS Track system was developed to inform the public of the status of each assessment from start to completion.

Dated: November 4, 2004.
George W. Alapas,
Deputy Director, National Center for Environmental Assessment.

[FR Doc. 04-25096 Filed 11-9-04; 8:45 am]

BILLING CODE 6560-50-P